DEPARTMENT OF COMMERCE

International Trade Administration

[A-570-962]

Certain Potassium Phosphate Salts From the People's Republic of China: Final Results of Expedited First Sunset Review of the Antidumping Duty Order

AGENCY: Enforcement and Compliance, International Trade Administration, Department of Commerce.

SUMMARY: On June 1, 2015, the Department of Commerce (“Department”) published the notice of initiation of the first five-year (“sunset”) review of the antidumping duty order on certain potassium phosphate salts (“salts”) from the People's Republic of China (“PRC”) pursuant to section 751(c) of the Tariff Act of 1930, as amended (the “Act”).¹ As a result of this sunset review, the Department finds that revocation of the antidumping duty order on salts from the PRC would be likely to lead to continuation or recurrence of dumping. The magnitude of the dumping margins likely to prevail is indicated in the “Final Results of Review” section of this notice.

¹ See Initiation of Five-Year (“Sunset”) Review, 80 FR 31012 (June 1, 2015).

DATES: Effective date: October 5, 2015.

FOR FURTHER INFORMATION CONTACT: Katie Marksberry or Ryan Mullen, AD/CVD Operations, Enforcement and Compliance, International Trade Administration, U.S. Department of Commerce, 14th Street and Constitution Avenue NW., Washington, DC 20230; telephone: (202) 482-7906 or (202) 482-5260, respectively.

SUPPLEMENTARY INFORMATION:

Background

As noted above, on June 1, 2015, the Department published the initiation of the first sunset review of salts from the PRC.² On June 11, 2015, ICL Performance Products, LP and Prayon, Inc. (collectively, “Petitioners”) timely notified the Department of their intent to participate within the deadline specified in 19 CFR 351.218(d)(1)(i), claiming domestic interested party status under section 771(9)(C) of the Act.³ On July 1, 2015, the Department received an adequate substantive response from Petitioners within the deadline specified in 19 CFR 351.218(d)(3)(i).⁴ We received no responses from respondent interested parties. As a result, the Department conducted an expedited (120-day) sunset review of the order, pursuant to section 751(c)(3)(B) of the Act and 19 CFR 351.218(e)(1)(ii)(C)(2).

² Id.

³ See Petitioners' June 11, 2015, submission.

⁴ See Petitioners' July 1, 2015, submission.

Scope of the Order

The phosphate salts covered by the scope of the order include anhydrous Dipotassium Phosphate (DKP) and Tetrapotassium Pyrophosphate (TKPP), whether anhydrous or in solution (collectively “phosphate salts”).

TKPP, also known as normal potassium pyrophosphate, Diphosphoric acid or Tetrapotassium salt, is a potassium salt with the formula K4P2O7. The CAS registry number for TKPP is 7320-34-5. TKPP is typically 18.7 percent phosphorus and 47.3 percent potassium. It is generally greater than or equal to 43.0 percent P2O5 content. TKPP is classified under heading 2835.39.1000, HTSUS.

DKP, also known as Dipotassium salt, Dipotassium hydrogen orthophosphate or Potassium phosphate, dibasic, has a chemical formula of K2HPO4. The CAS registry number for DKP is 7758-11-4. DKP is typically 17.8 percent phosphorus, 44.8 percent potassium and 40 percent P2O5 content. DKP is classified under heading 2835.24.0000 HTSUS.

The products covered by this order include the foregoing phosphate salts in all grades, whether food grade or technical grade. The products covered by this order also include anhydrous DKP without regard to the physical form, whether crushed, granule, powder or fines. Also covered are all forms of TKPP, whether crushed, granule, powder, fines or solution.

For purposes of the order, the narrative description is dispositive, and not the tariff heading, American Chemical Society, CAS registry number or CAS name, or the specific percentage chemical composition identified above.

Analysis of Comments Received

All issues raised in this sunset review are addressed in the Issues and Decision Memorandum.⁵ The issues discussed in the Issues and Decision Memorandum include the likelihood of continuation or recurrence of dumping and the magnitude of the margins likely to prevail if the order were to be revoked. Parties may find a complete discussion of all issues raised in the review and the corresponding recommendations in this public memorandum which is on file electronically via Enforcement and Compliance's Antidumping and Countervailing Duty Centralized Electronic Service System (“ACCESS”). ACCESS is available to registered users at http://access.trade.gov, and is available to all parties in the Central Records Unit, room B8024 of the main Department of Commerce building. In addition, a complete version of the Issues and Decision Memorandum can be accessed directly on the Internet at http://enforcement.trade.gov/frn/index.html. The signed and electronic versions of the Issues and Decision Memorandum are identical in content.

⁵ See Memorandum to Paul Piquado, Assistant Secretary for Enforcement and Compliance, from Christian Marsh, Deputy Assistant Secretary for Antidumping and Countervailing Duty Operations, Re: Issues and Decision Memorandum for the Expedited First Sunset Review of the Antidumping Duty Order on Certain Potassium Phosphate Salts from the People's Republic of China, dated concurrently with this notice.

Final Results of Review

Pursuant to section 752(c) of the Act, the Department determines that revocation of the order would be likely to lead to continuation or recurrence of dumping at weighted-average margins up to 95.40 percent.

Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are publishing these final results and notice in accordance with sections 751(c), 752(c), and 777(i)(1) of the Act.

Dated: September 25, 2015.
Paul Piquado,
Assistant Secretary for Enforcement and Compliance.

[FR Doc. 2015-25295 Filed 10-2-15; 8:45 am]

BILLING CODE 3510-DS-P